DEPARTMENT OF THE INTERIOR

Bureau of Land Management

[LLUT920-09-L13200000-EL000, UTU-87084]

Notice of Invitation to Participate in Coal Exploration License, Utah

AGENCY: Bureau of Land Management, Interior.

ACTION: Notice of invitation to participate in coal exploration license.

SUMMARY: All interested parties are hereby invited to participate with Ark Land Company on a pro rata cost sharing basis in its program for the exploration of coal deposits owned by the United States of America. The exploration program is fully described and is being conducted pursuant to an exploration plan approved by the Bureau of Land Management (BLM). The plan may be modified to accommodate the legitimate exploration needs of persons seeking to participate.

DATES: Any party electing to participate in this exploration program must send written notice to the Ark Land Company and the BLM, as provided in the ADDRESSES section below, which must be received by September 21, 2009.

ADDRESSES: Copies of the exploration plan and license (serialized under the number of UTU 87084) are available for review during normal business hours in the public room of the BLM State Office, 440 West 200 South, Suite 500, Salt Lake City, Utah. The written notice to participate in the exploration program should be sent to both the BLM, Utah State Office, P.O. Box 45155, Salt Lake City, Utah 84145, and to Mark Bunnell, Senior Geologist, Ark Land Company, c/o Canyon Fuel Co., LLC, Skyline Mines, HC35, Box 380, Helper, Utah 84526.

SUPPLEMENTARY INFORMATION: Pursuant to section 2(b) of the Mineral Leasing Act of 1920, as amended by section 4 of the Federal Coal Leasing Amendments Act of 1976, 90 Stat. 1083, 30 U.S.C. 201(b), and to the regulations adopted as 43 CFR part 3410, all interested parties are hereby invited to participate with Ark Land Company on a pro rata cost sharing basis in its program for the exploration of coal deposits owned by the United States of America in the following-described lands in Carbon County, Utah:

T. 12 S., R. 6 E., SLM, Utah

Sec. 26, lots 1-4, N½S½, SW¼SW¼.

Containing 365.72 acres, more or less.

All of the coal in the above-described land consists of unleased Federal coal within the Uinta-Southwestern Utah Known Coal Region. This coal exploration license will be issued by the Bureau of Land Management. This exploration program will obtain coal data to supplement data from adjacent coal development. This notice of invitation to participate was published in The Sun Advocate, once each week for two consecutive weeks beginning February 17, 2009 and in the Federal Register.

The foregoing is published in the Federal Register pursuant to 43 CFR 3410.2-1(c)(1).

Selma Sierra,
State Director.

[FR Doc. E9-19954 Filed 8-19-09; 8:45 am]

BILLING CODE 4310-DQ-P